SOCIAL SECURITY ADMINISTRATION

[Docket No. SSA-2011-0009]

Service Contract Inventory and Corresponding Point of Contact Information Per Section 703 of Division C of the Fiscal Year (FY) 2010 Consolidated Appropriations Act

AGENCY: Social Security Administration.

ACTION: Notice.

SUMMARY: We are providing the Web site address (URL) for the Service Contract Inventory and the corresponding point of contact information per Section 743 of Division C of the FY 2010 Consolidated Appropriations Act, Public Law 111-117.

FOR FURTHER INFORMATION CONTACT: Dennis Wilhite, Director, Office of Budget Execution and Automation, Office of Budget, Social Security Administration, 6401 Security Boulevard, Baltimore, MD 21235-6401. Phone (410) 966-6988, e-mail Dennis.Wilhite@ssa.gov.

SUPPLEMENTARY INFORMATION: Section 743 of Division C of the FY 2010 Consolidated Appropriations Act, Public Law 111-117 requires executive agencies to prepare an annual inventory of their service contracts and make them available to the public. Our Web address (URL) for the service contract inventory is http://www.socialsecurity.gov/sci.

Dated: January 18, 2011.
Michael G. Gallagher,
Deputy Commissioner for Budget, Finance and Management.

[FR Doc. 2011-1378 Filed 1-24-11; 8:45 am]

BILLING CODE 4191-02-P